DEPARTMENT OF HEALTH AND HUMAN SERVICES

National Institutes of Health

National Heart, Lung, and Blood Institute; Notice of Meeting

Pursuant to section 10(a) of the Federal Advisory Committee Act, as amended (5 U.S.C. App.), notice is hereby given of a meeting of the Sleep Disorders Research Advisory Board.

The meeting will be open to the public. Individuals who plan to attend and need special assistance should notify the Contact Person listed below in advance of the meeting.

Name of Committee: Sleep Disorders Research Advisory Board.

Date: January 4, 2011.

Time: 1 p.m. to 5 p.m.

Agenda: To discuss sleep research plan development. Public meeting observers should call 1-888-791-5525 to access the teleconference and the observer passcode is 3737665. Public meeting observers should send comments or questions for this meeting to the National Center on Sleep Disorders Research by e-mail mt2d@nih.gov or fax 301-480-3557.

Place: National Institutes of Health, 6701 Rockledge Drive, Suite 10170, Bethesda, MD 20892. (Telephone Conference Call)

Contact Person: Michael J. Twery, PhD, Director, National Center on Sleep Disorders Research, Division of Lung Diseases, National Heart, Lung, and Blood Institute, National Institutes of Health, 6701 Rockledge Drive, Suite 10038, Bethesda, MD 20892-7952. 301-435-0199. twerym@nhlbi.nih.gov.

Any interested person may file written comments with the committee by forwarding the statement to the Contact Person listed on this notice. The statement should include the name, address, telephone number and when applicable, the business or professional affiliation of the interested person.

Information is also available on the Institute's/Center's home page: www.nhlbi.nih.gov/meetings/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: November 17, 2010.
Jennifer S. Spaeth,
Director, Office of Federal Advisory Committee Policy.

[FR Doc. 2010-29523 Filed 11-22-10; 8:45 am]

BILLING CODE 4140-01-P